DELAWARE RIVER BASIN COMMISSION

Notice of Commission Meeting and Public Hearing

Notice is hereby given that the Delaware River Basin Commission will hold an informal conference followed by a public hearing on Wednesday, March 2, 2011. The hearing will be part of the Commission's regular business meeting. The conference session and business meeting both are open to the public and will be held at the West Trenton Volunteer Fire Company, located at 40 West Upper Ferry Road, West Trenton, New Jersey.

The conference among the commissioners and staff will begin at 10:45 a.m. and will consist of two presentations: report by Partnership for the Delaware Estuary's Executive Director Jennifer Adkins on PDE's climate-ready estuary project; and report by a representative of Columbia University's Columbia Earth Institute on that institution's water management and climate project.

The subjects of the public hearing to be held during the 1:30 p.m. business meeting include the dockets listed below:

1. Warren County (Pequest River) Municipal Utilities Authority, D-1971-094 CP-4. An application for renewal of the Belvidere Wastewater Treatment Plant (WWTP). The existing 0.5 million gallon per day (mgd) WWTP will continue to discharge treated effluent to Water Quality Zone 1D of the Delaware River at River Mile 197.0. The facility is located in White Township, Warren County, New Jersey within the section of the non-tidal Delaware River known as the Lower Delaware, which is classified as Special Protection Waters.

2. Fleetwood Borough Authority, D-1987-054 CP-3. An application to renew the approval for discharge of up to 0.7 mgd of treated effluent from existing Outfall No. 001 at the Fleetwood WWTP. The WWTP discharges to Willow Creek at River Mile 92.47-86.7-0.6-6.4 (Delaware River—Schuylkill River—Maiden Creek—Willow Creek), in Richmond Township, Berks County, Pennsylvania.

3. Village of Monticello, D-1981-038 CP-2. An application to approve modifications to the existing 3.1 mgd Monticello WWTP. Modifications include retrofit of three sequencing batch reactors (SBR) in the facility's two existing oxidation ditches and a stormwater retention basin; converting one of the existing clarifiers to an aerobic digester and the other to an equalization basin; and converting sludge lagoon No. 2 into reed beds. Outfall No. 001 will continue to discharge to Tannery Brook, a tributary of the Neversink River at River Mile 253.64-27.3-1.91-3.24-1.54 (Delaware River—Neversink River—Sheldrake Stream—Kiamesha Creek—Tannery Brook). The project is located within the Village of Monticello, Sullivan County, New York in the drainage area of the section of the non-tidal Delaware River known as the Middle Delaware, which is classified as Special Protected Waters.

4. Lake Adventure Community Association, D-1993-062 CP-2. An application for approval to modify the treatment process of the existing 0.16 mgd Lake Adventure WWTP from extended aeration to a sequencing batch reactor (SBR). The WWTP will continue to discharge to an unnamed tributary of Shohola Creek at River Mile 273.2-13.25-0.91 (Delaware River—Shohola Creek—UNT), within the drainage area of the section of the non-tidal Delaware River known as the Upper Delaware, which is classified as Special Protection Waters. The WWTP is located in Dingman Township, Pike County, Pennsylvania.

5. Superior Water Company, D-2001-015 CP-3. An application for approval of an existing groundwater withdrawal (GWD) project to increase an individual well allocation and continue to supply up to 36.82 million gallons per month (mgm) of water to the applicant's public water supply system from 10 existing wells. The applicant requests that the individual allocation for Well No. SWC-8 be increased from 2.2 mgm to 6.7 mgm. The current individual well allocation is below historic use and is inadequate to meet typical peak demands. The project is located in the Brunswick and Lockatong Formations in the Zacharias, Scioto, and Minister Creeks watersheds in Douglass, New Hanover, Upper Frederick, and Worcester townships in Montgomery County, Pennsylvania, within the Southeastern Pennsylvania GWPA.

6. NuStar Asphalt Refining, LLC, D-2001-027-3. An application for renewal of a surface water withdrawal (SWWD) project to supply up to 7.79 mgm of surface water from existing Intakes Nos. 1 and 2 for the applicant's industrial processes, heating, and fire emergency testing. Intake No. 2 was added to the facility in July 2004, a modification that was not reflected in Docket No. D-2001-027-1, the most recent Commission approval for the project. The applicant's pending application was the subject of a previous notice as Docket No. D-2003-021-2. No increase in the applicant's water allocation is proposed. The project intakes withdraw water from the tidal portion of Mantua Creek in the Mantua Creek Watershed in the Borough of Paulsboro, Gloucester County, New Jersey.

7. Superior Tube Company, D-1996-013-2. An application for approval of a combined surface and groundwater withdrawal project to continue to supply up to 13.4 mgm of water to the applicant's industrial facility from 11 existing wells and a surface water intake located in Perkiomen Creek. The previous docket approval expired on April 21, 2008. The project wells are located in the Brunswick Formation in Lower Providence Township, Montgomery County, Pennsylvania. The project wells and surface water intake are located in the Perkiomen—Lodal Creeks subbasin of the Southeastern Pennsylvania Ground Water Protected Area (GWPA).

8. Dragon Springs Buddhist, Inc., D-2007-021 CP-2. An application for approval to construct and operate the 0.0184 mgd Dragon Springs WWTP. Treated effluent from the proposed WWTP will discharge to a subsurface leach field located near River Mile 253.64-9.5-0.4 (Delaware River—Neversink River—Basher Kill River) within the drainage area of the section of the non-tidal Delaware River known as the Middle Delaware, which is classified as Special Protection Waters (SPW). The WWTP will be located in the Town of Deerpark, Orange County, New York. By Docket No. D-2007-021-1 issued on September 26, 2007, DRBC approved the construction of a 0.011 mgd WWTP to discharge to an unnamed tributary of the Basher Kill River; however, that facility was never constructed.

9. Naval Surface Warfare Center, Carderock Division, Ship Systems Engineering Station D-2009-004-1. An application for approval of an existing and proposed discharge of non-contact cooling water (NCCW) from the Naval Surface Warfare Center, Carderock Division, Ship Systems Engineering Station from two (2) existing outfalls located in Delaware River Water Quality Zone 4. The project currently discharges up to 24.0 million gallons per day (mgd) of NCCW intermittently from Outfall 001 to the Navy Reserve Basin (which is connected by a channel and tidally linked to the Schuylkill River, one-quarter mile upstream of its confluence with the Delaware River) and discharges 0.60 mgd of process water from Outfall 005 directly to the Delaware River in Water Quality Zone 4. Additional NCCW from the new P-205 Electric Drive land based test site (LBTS) is proposed to be discharged via Outfall 001. The discharge from Outfall 001 will be increased from 24.0 mgd to 36.0 mgd as a result of the project. The discharge from Outfall 005 will remain at 0.60 mgd. The project is located in the Schuylkill River Watershed in the City of Philadelphia, Philadelphia County, Pennsylvania.

10. Blackwood Golf Course, D-2010-024-1. An application for approval of a GWD project to supply up to 3.57 mgm of water to the applicant's golf course irrigation system from existing Wells Nos. 1 and 2. The project is located in the Brunswick Formation in the Schuylkill River Watershed in Union Township, Berks County, Pennsylvania in the Sixpenny Subbasin of the Southeastern Pennsylvania Ground Water Protected Area (GWPA).

11. Pennsylvania American Water Company—Stony Garden, D-2010-025 CP-1. An application for the approval of an existing 0.1679 mgd discharge of filter backwash from the Stony Garden WFP. The WFP discharges to the Delaware River at River Mile 183.66-36.32-20.7-0.06 (Delaware River—Lehigh River—Aquashicola Creek—Ross Common Creek) in Hamilton Township, Monroe County, Pennsylvania, within the drainage area of the section of the non-tidal Delaware River known as the Lower Delaware, which is classified as Special Protected Waters.

12. Thomas & Betts Corporation, D-2010-033-1. An application for approval of an existing 0.255 mgd discharge of NCCW and stormwater via Outfall No. 004A at the Elastimold electronic equipment plant (EEP). The Elastimold EEP is located within the drainage area of the section of the non-tidal Delaware River known as the Lower Delaware, which is classified as Special Protection Waters. The facility discharges to an unnamed tributary of the Musconetcong River at River Mile 174.6-27.9-0.12 (Delaware River—Musconetcong River—UNT), in Washington Township, Morris County, New Jersey.

13. Squires Golf Course, D-2010-034-1. An application for approval of a GWD project to supply up to 5 mgm of water to the applicant's golf course irrigation system from existing Well No. 1 and up to 5.7 mgm of water from the pond intake located in the irrigation pond. The project is located in the Stockton Formation in the Park Creek Watershed in Horsham Township, Montgomery County, Pennsylvania, within the Park Creek Subbasin of the Southeastern Pennsylvania Ground Water Protected Area (GWPA).

14. Waste Management of Pennsylvania, D-1988-054-6. The Delaware River Basin Commission (DRBC or Commission) approved Docket No. D-88-54-5 on July 15, 2009. In accordance with Condition II.aa. of the docket, the docket holder subsequently filed a request for a Color Determination from the Executive Director, which was issued on August 16, 2010. The docket holder timely appealed. The revised docket would update the docket compliance dates and would continue the approval to construct a new 0.3 mgd leachate treatment plant (LTP) to replace the existing 0.1 mgd LTP, relocation/reconfiguration of the associated outfall, and the total dissolved solids (TDS) determination included in Docket No. D-88-54-5. In combination with a revised color determination, the revised docket would resolve the applicant's appeal.

In addition to the standard business meeting items, consisting of adoption of the Minutes of the Commission's September 15 and December 8, 2010 business meetings, announcements of upcoming meetings and events, a report on hydrologic conditions, reports by the Executive Director and the Commission's General Counsel, and public dialogue, the business meeting also will include public hearings on: (a) A resolution authorizing the Executive Director to renew DRBC's 2001 cooperative agreement with Rutgers University for the collection, analysis and interpretation of ambient air samples to support the control of toxic substances in the Delaware Estuary; (b) a resolution authorizing the Executive Director to amend the Commission's 2007 agreement with the Academy of Natural Sciences for the analysis of ambient water samples from the non-tidal Delaware River for nutrients and bacteria to include parameters specific to natural gas development activities in the Delaware River Basin; (c) a resolution reauthorizing the Water Quality Advisory Committee; and (d) the Delaware River Basin Commission's proposed Fiscal Year 2012 Operating Budget. A hearing also is planned for the Lambertville Municipal Utility Authority (LMUA) to show cause why its wastewater treatment plant improvements should not be subject to review in accordance with Section 3.8 of the Delaware River Basin Compact and DRBC Regulations.

Draft dockets scheduled for public hearing on March 2, 2011 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting date for changes that may be made after the deadline for filing this notice.

Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: February 15, 2011.
Pamela M. Bush,
Commission Secretary.

[FR Doc. 2011-3836 Filed 2-18-11; 8:45 am]

BILLING CODE 6360-01-P